DEPARTMENT OF HEALTH AND HUMAN SERVICES

Administration for Children and Families

Submission for OMB Review; Comment Request

Title: OCSE-100, State Plan Preprint Page; OCSE-21-U4, State Plan transmittal.

OMB No.: 0970-0017.

Description: Section 7310 of the Deficit Reduction Act of 2005, titled, Mandatory Fee for Successful Child Support Collection for a Family That Has Never Received TANF, amends Section 454(6) of the Social Security Act (the Act) such that a State child support plan must provide for the imposition of an annual fee of $25 in each case in which an individual has never received assistance under a State program funded under title IV-A of the Act and for whom the State has collected at least $500 of support. States will need to submit the new State plan preprint page, i.e., page 2.5-4, as well as a transmittal for the preprint page, in order to have an approved State plan.

The 60-day notice for this requirement was originally published in the Notice of Proposed Rulemaking (NPRN) in the Federal Register on January 24, 2007 (72 FR 3093); however, because of the October 1, 2006, effective date for the mandate that States implement and collect a $25-annual fee in specified cases, the second notice for the State plan preprint page must be published prior to the publication of the final rule.

Respondents: State IV-D Agencies.

Annual Burden Estimates
Instrument | Number of respondents | Number of responses per respondent | Average burden hours per response | Total burden hours
State Plan | 54 | 1 | 0.5 | 216
OCSE-21-U4 | 54 | 1 | 0.25 | 108

Estimated Total Annual Burden Hours: 324

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: April 3, 2008.
Robert Sargis,
Reports Clearance Officer.

[FR Doc. E8-7408 Filed 4-8-08; 8:45 am]

BILLING CODE 4184-01-M